DEPARTMENT OF TRANSPORTATION

Surface Transportation Board

[STB Finance Docket No. 35144]

Wisconsin & Southern Railroad Company―Acquisition and Operation Exemption—Union Pacific Railroad Company

AGENCY: Surface Transportation Board, DOT.

ACTION: Notice of exemption.

SUMMARY: Under 49 U.S.C. 10502, the Board is granting a petition for exemption from the prior approval requirements of 49 U.S.C. 10902 for the Wisconsin & Southern Railroad Company (WSOR), a Class II rail carrier, to acquire and operate a permanent exclusive freight rail operating easement over approximately 10.95 miles of railroad known as the Kohler Industrial Lead that is currently owned by Union Pacific Railroad Company (UP) and to acquire and operate approximately 1,000 feet of UP spur track, subject to labor protective conditions. The easement extends from a connection with WSOR's north-south Kiel-to-Saukville line at milepost 14.95 at Plymouth, WI, to milepost 4.0 near Kohler, WI. The UP spur track constitutes the lead to the site of the former Cargill Malt Plant at Kohler. This transaction is related to a concurrently filed verified notice of exemption in Wisconsin & Southern Railroad Co.—Trackage Rights Exemption—Union Pacific Railroad Company, STB Finance Docket No. 35191. In that proceeding, WSOR seeks to acquire from UP and operate 2.8 miles of overhead trackage rights over a line of railroad extending between UP milepost 4.0 in Kohler and UP milepost 1.2 at Kohler Junction near Sheboygan, WI.¹ This transaction is also related to a concurrently filed petition for declaratory order filed in Wisconsin Department of Transportation—Petition for Declaratory Order—Rail Line in Sheboygan County, WI, STB Finance Docket No. 35195. In that proceeding, the Wisconsin Department of Transportation seeks a finding that its acquisition of the right-of-way and railroad assets of the 10.95-mile rail line will not render it a rail common carrier. WSOR has requested expedited action in this proceeding.

¹ Notice of the filing was served on February 27, 2009, and published in the Federal Register on the same day at 74 FR 9019. WSOR concurrently filed a motion for protective order, which was granted by decision served on March 20, 2009.

DATES: This exemption will be effective on May 8, 2009. Petitions to stay must be filed by May 4, 2009. Petitions for reconsideration must be filed by May 14, 2009.

ADDRESSES: An original and 10 copies of all pleadings, referring to STB Finance Docket No. 35144, must be filed with the Surface Transportation Board, 395 E Street, SW., Washington, DC 20423-0001. In addition, one copy of each pleading must be served on WSOR's representative: John D. Heffner, John D. Heffner, PLLC, 1750 K Street, NW., Suite 200, Washington, DC 20006.

FOR FURTHER INFORMATION CONTACT: Joseph H. Dettmar, (202) 245-0395. [Assistance for the hearing impaired is available through the Federal Information Relay Service (FIRS) at 1-800-877-8339].

SUPPLEMENTARY INFORMATION: Additional information is contained in the Board's decision. Board decisions and notices are available on our Web site at http://www.stb.dot.gov.

Decided: April 20, 2009.
By the Board, Chairman Mulvey, and Vice Chairman Nottingham.
Jeffrey Herzig,
Clearance Clerk.

[FR Doc. E9-9449 Filed 4-23-09; 8:45 am]

BILLING CODE 4915-01-P